NUCLEAR REGULATORY COMMISSION

[Docket Nos. 52-009-ESP and ASLBP No. 04-823-03-ESP]

System Energy Resources, Inc.; Notice of Reconstitution

Pursuant to 10 CFR 2.321, the Atomic Safety and Licensing Board in the above captioned proceeding regarding the October 2003 application of System Energy Resources, Inc., (SERI) for a 10 CFR part 52 early site permit (ESP), which would allow SERI to “bank” a possible site for the future construction of a new nuclear power generation facility on its Grand Gulf Nuclear Station property, is hereby reconstituted by appointing Administrative Judges Lawrence G. McDade, Chair, Nicholas G. Trikouros, and Richard E. Wardwell in place of Administrative Judges G. Paul Bollwerk, III, Chair, Paul B. Abramson, and Anthony J. Baratta.

In accordance with 10 CFR 2.302, henceforth all correspondence, documents, and other material relating to any matter in this proceeding over which this Licensing Board has jurisdiction should be served on these administrative judges as follows:

Lawrence G. McDade, Chair, Atomic Safety and Licensing Board Panel, U.S. Nuclear Regulatory Commission, Washington, DC 20555-0001.

Dr. Nicholas G. Trikouros, Atomic Safety and Licensing Board Panel, U.S. Nuclear Regulatory Commission, Washington, DC 20555-0001.

Dr. Richard E. Wardwell, Atomic Safety and Licensing Board Panel, U.S. Nuclear Regulatory Commission,Washington, DC 20555-0001.

Issued at Rockville, Maryland this 15th day of December 2005.
G. Paul Bollwerk, III,
Chief Administrative Judge, Atomic Safety and Licensing Board Panel.

[FR Doc. E5-7782 Filed 12-22-05; 8:45 am]

BILLING CODE 7590-01-P